DEPARTMENT OF THE INTERIOR

National Park Service

[NPS-WASO-CR-NR-NHL-FR00000038; PPWOCRADI0, PCU00RP14.50000; OMB Control Number 1024-0276]

Agency Information Collection Activities; National Historic Landmarks Nomination Form

AGENCY: National Park Service, Interior.

ACTION: Notice of information collection request; request for comment.

SUMMARY: In accordance with the Paperwork Reduction Act of 1995, we, the National Park Service (NPS) are proposing to renew an information collection.

DATES: Interested persons are invited to submit comments on or before January 22, 2019.

ADDRESSES: Send comments on this Information Collection Request (ICR) to Phadrea D. Ponds, Information Collection Clearance Officer, National Park Service, 1201 Oakridge Drive, Fort Collins, CO 80525; or by email to phadrea_ponds@nps.gov. Please reference OMB Control Number 1024-0276 in the subject line of your comments.

FOR FURTHER INFORMATION CONTACT: To request additional information about this ICR, contact Patty Henry by email at patty_henry@nps.gov, or by telephone at 202-354-2216.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the NPS, (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS is authorized by Historic Sites Act of 1935 (54 U.S.C. 320101 et seq.); 36 CFR part 65; the National Historic Preservation Act of 1966 (54 U.S.C. 300101 et seq.) to collect this information on behalf of the Secretary of the Interior. In accordance with the law and 36 CFR part 65, private citizens, businesses, and organizations; Federal agencies (FPO); State and local public agencies; State Historic Preservation Officers (SHPOs); territories; and Indian tribes (THPO) may submit nominations for National Historic Landmark (NHL) designation.

All interested parties must inquire by letter or email about the eligibility of properties to be considered for NHL designation. The inquiry will include the name and location of property, brief historical summary of property, and brief description of property. If determined eligible for consideration the respondent will use NPS Form 10-934 (National Historic Landmarks Nomination Form) to nominate a property. The form is used to collect the following information: (1) Name and location of property; (2) significance data related to the property; (3) any withholding of sensitive information; (4) geographical data; (5) significance statement and discussion about the property; (6) property description and statement of integrity; (7) major bibliographic references; and (8) name, organization, address, phone number, and email of the person completing the form.

Title of Collection: National Historic Landmarks Nomination Form.

OMB Control Number: 1024-0276.

Form Number: NPS Form 10-934.

Type of Review: Extension of a currently approved collection.

Respondents/Affected Public: Private individuals; state, tribal and local governments; businesses; educational institutions; and nonprofit organizations

Total Estimated Number of Annual Respondents: 30.

Total Estimated Number of Annual Responses: 10,320.

Estimated Completion Time per Response: Varies from 239 hours to 520 hours, depending on respondent and/or activity.

Total Estimated Number of Annual Burden Hours: 10,320.

Respondent's Obligation: Required to obtain or retain benefits.

Frequency of Collection: On occasion.

Total Estimated Annual Nonhour Burden Cost: None.

Requirement | Annual number of responses | Total annual burden hours
Letter of Inquiry:
Individuals | 3 | 6
Private Sector | 7 | 14
Government | 10 | 20
Nominations | 30 | 10,320
Totals | 50 | 10,360

An agency may not conduct or sponsor and a person is not required to respond to a collection of information unless it displays a currently valid OMB control number.

The authority for this action is the Paperwork Reduction Act of 1995 (44 U.S.C. 3501 et seq.).

Phadrea D. Ponds,
Acting, NPS Information Collection Clearance Officer, National Park Service.

[FR Doc. 2018-25431 Filed 11-21-18; 8:45 am]

BILLING CODE 4312-52-P